DEPARTMENT OF LABOR

Employment and Training Administration

[TA-W-82,859]

American Medical Alert Corporation, DBA Tunstall, Clovis, New Mexico; Amended Certification Regarding Eligibility To Apply for Worker Adjustment Assistance

In accordance with Section 223 of the Trade Act of 1974, as amended (“Act”), 19 U.S.C. 2273, the Department of Labor issued a Certification of Eligibility to Apply for Worker Adjustment Assistance on July 18, 2013, applicable to workers of American Medical Alert Corporation, doing business as Tunstall, Long Island City, New York. The notice has not yet been published in the Federal Register.

At the request of the subject firm, the Department reviewed the certification for workers of the subject firm. The workers are engaged in activities related to the supply of call center services.

The subject firm reports that the information supplied during the investigation pertains to the location in Clovis, New Mexico, not Long Island City, New York.

The amended notice applicable to TA-W-82,859 is hereby issued as follows:

All workers of American Medical Alert Corporation, doing business as Tunstall, Clovis, New Mexico, who became totally or partially separated from employment on or after June 27, 2012 through two years from the date of certification, and all workers in the group threatened with total or partial separation from employment on date of certification through two years from the date of certification, are eligible to apply for adjustment assistance under Chapter 2 of Title II of the Trade Act of 1974, as amended.

Signed in Washington, DC, this 2nd day of August, 2013.
Michael W. Jaffe,
Certifying Officer, Office of Trade Adjustment Assistance.

[FR Doc. 2013-19542 Filed 8-12-13; 8:45 am]

BILLING CODE 4510-FN-P